DEPARTMENT OF COMMERCE

International Trade Administration

[A-580-839]

Polyester Staple Fiber From the Republic of Korea: Rescission of Antidumping Duty Administrative Review; 2016-2017

AGENCY: Enforcement and Compliance, International Trade Administration, Department of Commerce.

SUMMARY: The Department of Commerce (the Department) is rescinding the administrative review of the antidumping duty order on polyester staple fiber (PSF) from the Republic of Korea (Korea), based on the timely withdrawal of requests for review. The period of review (POR) is May 1, 2016, through April 30, 2017.

DATES: Effective August 8, 2017.

FOR FURTHER INFORMATION CONTACT: Toby Vandall, AD/CVD Operations, Office I, Enforcement and Compliance, International Trade Administration, U.S. Department of Commerce, 1401 Constitution Avenue NW., Washington, DC 20230; telephone: (202) 482-1664.

SUPPLEMENTARY INFORMATION:

Background

On May 1, 2017, the Department published a notice of opportunity to request an administrative review of the antidumping duty order on PSF from Korea for the POR of May 1, 2016, through April 30, 2017.¹ On May 30, 2017, Huvis Corporation (Huvis) submitted a timely-filed request for an administrative review of its POR sales.² On May 31, 2017, pursuant to 19 CFR 351.213, the Department received a timely-filed request from DAK Americas LLC and Auriga Polymers, Inc. (collectively, the petitioners) for an administrative review of Toray Chemical Korea, Inc. (Toray) and Huvis.³ On July 6, 2017, pursuant to these requests and in accordance with 19 CFR 351.221(c)(1)(i), the Department published a notice of initiation of an administrative review of Toray and Huvis.⁴ On July 11, 2017, and July 12, 2017, pursuant to 19 CFR 351.213(d)(1), the petitioners and Huvis, respectively, timely withdrew their requests for an administrative review.⁵

¹ See Antidumping or Countervailing Duty Order, Finding, or Suspended Investigation; Opportunity to Request Administrative Review, 82 FR 20315 (May 1, 2017).

² See Letter from Huvis, “Certain Polyester Staple Fiber from Korea; Request for Administrative Review for 2016-2017 Period” (May 30, 2017).

³ See Letter from the petitioners, “Polyester Staple Fiber from Korea” (May 31, 2017).

⁴ See Initiation of Antidumping and Countervailing Duty Administrative Reviews, 82 FR 31292 (July 6, 2017) (Notice of Initiation).

⁵ See Letter from the petitioners, “Polyester Staple Fiber from Korea—Withdrawal of Review Request for Toray Chemical Korea” (July 11, 2017); see also Letter from the petitioners, “Polyester Staple Fiber from Korea; Withdrawal of Review Request for Huvis Corporation” (July 12, 2017); see also Letter from Huvis, “Certain Polyester Staple Fiber from Korea; Withdrawal of Request for Administrative Review for 2016-2017 Period” (July 12, 2017).

Rescission of Review

Pursuant to 19 CFR 351.213(d)(l), the Department will rescind an administrative review, in whole or in part, if the party, or parties, that requested a review withdraw the request/s within 90 days of the publication date of the notice of initiation of the requested review. As noted above, the petitioners withdrew their request for review of Toray and Huvis within 90 days of the publication date of the notice of initiation. In addition, Huvis also timely withdrew its request for an administrative review. No other parties requested an administrative review of the antidumping duty order on PSF from Korea. Therefore, in response to the timely withdrawal of requests for review and, in accordance with 19 CFR 351.213(d)(l), the Department is rescinding this review.

Assessment

The Department will instruct U.S. Customs and Border Protection (CBP) to assess antidumping duties on all appropriate entries of PSF from Korea during the POR. Antidumping duties shall be assessed at rates equal to the cash deposit of estimated antidumping duties required at the time of entry, or withdrawal from warehouse, for consumption in accordance with 19 CFR 351.212(c)(l)(i). The Department intends to issue appropriate assessment instructions to CBP 15 days after publication of this notice in the Federal Register.

Notification to Importers

This notice serves as a final reminder to importers of their responsibility under 19 CFR 351.402(f)(2) to file a certificate regarding the reimbursement of antidumping duties prior to liquidation of the relevant entries during this review period. Failure to comply with this requirement could result in the presumption that reimbursement of antidumping duties occurred and the subsequent assessment of double antidumping duties.

Notification Regarding Administrative Protective Orders

This notice also serves as a final reminder to parties subject to administrative protective order (APO) of their responsibility concerning the return or destruction of proprietary information disclosed under an APO in accordance with 19 CFR 351.305(a)(3), which continues to govern the business proprietary information in this segment of the proceeding. Timely written notification of the return or destruction of APO materials or conversion to judicial protective order is hereby requested. Failure to comply with the regulations and terms of an APO is a sanctionable violation.

This notice is issued and published in accordance with sections 75l(a)(l) and 777(i)(1) of the Act, and 19 CFR 351.213(d)(4).

Dated: August 2, 2017.
James Maeder,
Senior Director, performing the duties of Deputy Assistant Secretary for Antidumping and Countervailing Duty Operations.

[FR Doc. 2017-16689 Filed 8-7-17; 8:45 am]

BILLING CODE 3510-DS-P